NUCLEAR REGULATORY COMMISSION

10 CFR Part 53

[NRC-2019-0062]

RIN 3150-AK31

Risk-Informed, Technology-Inclusive Regulatory Framework for Advanced Reactors

AGENCY: Nuclear Regulatory Commission.

ACTION: Availability of preliminary proposed rule language; extension of comment period.

SUMMARY: On November 8, 2021, the U.S. Nuclear Regulatory Commission (NRC) reopened the comment period on the preliminary proposed rule language for a risk-informed, technology-inclusive framework for reactor licensing. The public comment period was scheduled to close on January 31, 2022. The NRC has decided to extend the public comment period to allow more time for members of the public to develop and submit their comments.

DATES: The due date of comments requested in the document published on November 8, 2021 (86 FR 61718), is extended. Comments should be filed no later than August 31, 2022. Comments received after this date will be considered in the development of the proposed rule if it is practical to do so, but the NRC is able to ensure consideration only for comments received on or before this date.

ADDRESSES: You may submit comments on preliminary rule language by any of the following methods:

• Federal Rulemaking Website: Go to https://www.regulations.gov and search for Docket ID NRC-2019-0062. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

FOR FURTHER INFORMATION CONTACT: Robert Beall, Office of Nuclear Material Safety and Safeguards, telephone: 301-415-3874; email: Robert.Beall@nrc.gov; or Nanette Valliere, Office of Nuclear Reactor Regulation, telephone: 301-415-8462; email: Nanette.Valliere@nrc.gov. Both are staff of the U.S. Nuclear Regulatory Commission, Washington, DC 20555-0001.

SUPPLEMENTARY INFORMATION:

I. Obtaining Information

A. Obtaining Information

Please refer to Docket ID NRC-2019-0062 when contacting the NRC about the availability of information for this action. You may obtain publicly-available information related to this action by any of the following methods:

• Federal Rulemaking Website: Go to https://www.regulations.gov and search for Docket ID NRC-2019-0062.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov. The ADAMS accession number for the preliminary proposed rule text is ML20289A534.

B. Submitting Comments

Please include Docket ID NRC-2019-0062 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On November 6, 2020 (85 FR 71002), the NRC requested comments on preliminary proposed rule language for a risk-informed, technology-inclusive framework for reactor licensing. This original public comment period closed on November 5, 2021. The NRC reopened the comment period on November 8, 2021, with a closure date of January 31, 2022 (86 FR 61718). The NRC has now decided to extend the public comment period until August 31, 2022. This comment period extension reflects the extension of the Risk-informed, Technology-Inclusive Regulatory Framework for Advanced Reactors (part 53) rulemaking schedule by 9 months (ADAMS accession number ML21333A222). The additional time to develop the part 53 proposed rule will enable members of the public to continue to submit their comments. This increases the time for stakeholder engagement and for the NRC staff to iterate on the preliminary proposed rule language during the development of the proposed rule.

Dated: December 6, 2021.
For the Nuclear Regulatory Commission.
John R. Tappert,
Director, Division of Rulemaking, Environmental, and Financial Support, Office of Nuclear Material Safety and Safeguards.

[FR Doc. 2021-26877 Filed 12-9-21; 8:45 am]

BILLING CODE 7590-01-P